DEPARTMENT OF AGRICULTURE

Farm Service Agency

Notice of Funds Availability (NOFA) to Invite Applications for the American Indian and Alaska Native Credit Outreach Initiative

AGENCY: Farm Service Agency, USDA.

ACTION: Notice.

SUMMARY: The Farm Service Agency (FSA) is requesting applications for competitive cooperative agreement funds for Fiscal Year (FY) 2010 for the credit outreach initiative targeted to American Indian and Alaska Native farmers, ranchers, and youth residing primarily on Indian reservations within the contiguous United States and in Alaska. There is $400,000 available in funding for the remainder of FY 2010. FSA will make one award to a successful applicant through a cooperative agreement. FSA requests proposals from eligible nonprofit organizations, land-grant institutions, and federally-recognized Indian tribal governments interested in a competitively-awarded cooperative agreement to create and implement a mechanism that will provide credit outreach and promotion, pre-loan education, and one-on-one loan application preparation assistance to American Indian and Alaska Native farmers, ranchers, and youth. Successful proposals may include other innovative services intended to enhance participation by American Indians and Alaska Natives in specific FSA Agricultural Credit Programs and other relevant credit programs available to American Indian and Alaska Native producers.

DATES: Applications must be completed and submitted to the Agency no later than 5 p.m. eastern time May 6, 2010. Late applications will not be accepted and will be returned to the applicant. Applicants must ensure that the service used to deliver the application can do so by the deadline. Due to security concerns, packages sent to the Agency by mail have been delayed several days or even weeks.

ADDRESSES: Submit applications and other required materials by mail to: Mark Palmer, Director, Office of External Affairs, FSA, United States Department of Agriculture (USDA), STOP 0505, 1400 Independence Avenue, SW., Washington, DC 20250-0511.

FOR FURTHER INFORMATION CONTACT: For FSA Office of External Affairs or Office of Outreach: Mark Palmer, (202) 720-9933; email: mark.palmer@wdc.usda.gov.

For USDA Office of Tribal Relations: Janie Hipp, (202) 205-2249; e-mail: janie.hipp@osec.usda.gov.

SUPPLEMENTARY INFORMATION:

Purpose of Solicitation

This NOFA is being re-released because there was insufficient response to the NOFA published on August 27, 2009 (74 FR 43665-43669). This NOFA has been adjusted to reflect improvements in the American Indian Credit Outreach Initiative Program that ensures it better serves American Indian and Alaska Native producers. Most notable among these improvements is the fact that FSA will now administer the program with advice from USDA Office of Tribal Relations.

This solicitation is issued under 7 U.S.C. 2204b (b)(4), which authorizes the Secretary of Agriculture to enter into cooperative agreements to improve the coordination and effectiveness of Federal programs affecting rural areas. The principal objective of this cooperative agreement is to continue a national outreach program that enables American Indian and Alaska Native farmers, ranchers, and youth located either on Indian reservations or in other regions that have a significant presence of American Indian and Alaska Native farmers, ranchers, and youth in the contiguous United States and Alaska to understand and have access to the various FSA Agriculture Credit Programs.

The USDA Office of Tribal Relations will provide ongoing and concrete assistance and advice in program planning, delivery, and coordination; this will partially satisfy the “significant agency participation” requirement for the cooperative agreement. All program outcomes will be reported to FSA and the USDA Office of Tribal Relations.

Proposal Requirements

All proposed approaches must include a plan for how the project will have the following capabilities in place within three months after acceptance of award:

1. The demonstrated ability to deliver these credit outreach services. This should include demonstrated technical expertise, program familiarity, and technological capability, including the ability to use relevant software programs used for preparing farm business plans. This should also include demonstrated cultural sensitivity and a thorough understanding of the population targeted by the applicant, including a firm grasp of the unique credit challenges faced by the targeted population.

2. A strategic plan with concrete, actionable goals.

3. A tracking system with which to first, document the steps taken by the cooperator to realize these goals, and second, gauge the efficacy and impact of the program. Thus, the cooperator should be able to document, track, and report on their own internal activities, as well as their external results in the targeted population.

Proposals must demonstrate a well-thought out strategic plan for ensuring that American Indian and Alaska Natives have improved access to FSA Agricultural Credit Programs through targeted program education efforts, including targeted educational programs, application training sessions, one-to-one application troubleshooting, general information dissemination, and promotional campaigns.

Applicants who can suggest metrics for gauging the impact of Federal funding and success of their program education campaign will be more competitive. Possible metrics could include, but are not limited to:

• Number of producers who, after receiving assistance from the cooperator, successfully received an FSA loan or loan guarantee,

• Percentage increase in producers on targeted reservation or area receiving FSA credit support,

• Number of attendees at outreach events, and

• Number of attendees at outreach events who subsequently sought services from cooperator related to FSA Agricultural Credit Programs.

Applicants are encouraged to contact the FSA Office of Outreach, the FSA Office of External Affairs, or the USDA Office of Tribal Relations to discuss proposed Outreach strategies or proposed tracking metrics. (See FOR FURTHER INFORMATION CONTACT above.)

Background

Today, American Indians and Alaska Natives own and control approximately 66 million acres of agricultural lands held in trust by the United States Government and administered, for the most part, by the Bureau of Indian Affairs (BIA) of the Department of the Interior. Land-based agricultural enterprises are considered the primary source of revenue for most tribes, due in large part to their geographical isolation from any urban type industrial development activities. Thus, protecting this resource and utilizing it effectively are important functions of the elected tribal officials charged with operating or overseeing business activities that take place within reservations.

USDA provides farmers and ranchers technical, financial, and educational resources. American Indian and Alaska Native agricultural producers on reservations have historically been less able to benefit from USDA services than other farmers and ranchers. Since 1987, Congress has enacted Federal laws, such as the recent Food, Conservation, and Energy Act of 2008 (Pub. L. 110-246), (2008 Farm Bill), to address American Indians and Alaska Natives' (and other socially disadvantaged farmers and ranchers) lack of access to USDA's programs and services; this has resulted in beginning to close some of the gaps in access to these programs and services. As positive as these changes are, they have not fully addressed an implementation plan or the funds needed to carry out implementation of sorely needed agribusiness education and direct services to American Indian and Alaska Native reservation and non-reservation farmers and ranchers.

American Indian and Alaska Native agribusinesses, as well as individual American Indians and Alaska Natives, have consistently reported that the primary need in agriculture is access to the capital required to own and operate their own farms or ranches. Therefore, FSA has created and implemented this cooperative funding mechanism to provide credit outreach and other related business management training and assistance services related to FSA's Agricultural Credit Programs, subject to funding, as a way to resolve some of the credit needs of American Indian and Alaska Native agriculture.

Definitions

The following acronym and definitions are applicable to this notice.

Agency or FSA. The United States Department of Agriculture Farm Service Agency.

Farm land. Land used for commercial agriculture crops, poultry and livestock enterprises, or aquaculture.

Federally-Recognized Indian Tribal Government. The governing body or a governmental agency of any Indian tribe, band, nation, or other organized group or community (including any Native village as defined in section 3 of the Alaska Native Claims Settlement Act (43 U.S.C. 1602)) certified by the Secretary of the Interior as eligible for the special programs and services provided through the Bureau of Indian Affairs.

Land Grant Institutions. Any institution that is either:

1. A 1994 Institution, 1890 Institution, or 1862 Institution, (as defined in section 2 of the Agricultural Research, Extension, and Education Reform Act of 1998 (7 U.S.C. 7601));

2. An Indian tribal community college or an Alaska Native cooperative college; or

3. A Hispanic-serving institution (as defined in section 1404 of the National Agricultural Research, Extension, and Teaching Policy Act of 1977 (7 U.S.C. 3103)).

Non-Profit Organization. Any corporation, trust, association, cooperative, or other organization that:

1. Is operated primarily for scientific, educational, service, charitable, or similar purposes in the public interest;

2. Is not organized primarily for profit; and

3. Is recognized by the Internal Revenue Service as being certified as compliant with 501(c)(3) of the Internal Revenue Code (26 U.S.C. 501(c)(3)).

Recipient Eligibility Requirements

Applicants must either be a non-profit organization, a federally recognized Indian tribe, or a land grant institution as defined above. Applications without sufficient information to determine eligibility will not be considered.

Proposal Preparation

A proposal must contain an original and two copies of the following (Contact Mark Palmer (see FOR FURTHER INFORMATION CONTACT above) if you need help getting the forms):

1. Form SF-424, “Application for Federal Assistance.”

2. Form SF-424A, “Budget Information—Non-Construction Programs.”

3. Form SF-424B, “Assurances—Non-Construction Programs.”

4. Table of Contents. For ease of locating information, each proposal must contain a detailed table of contents immediately following the required Federal forms. The table of contents should include page numbers for each component of the proposal. Pagination should begin immediately following the table of contents.

5. Proposal Summary. A summary of the project proposal, not to exceed two pages, that includes the title of the project, a description of the project (including an overarching strategic plan (broad goals) and discrete actionable tasks (specific goals) to be accomplished), the names of the individuals responsible for conducting and completing the tasks, and the expected time frame for completing all tasks.

6. Eligibility. A detailed discussion, not to exceed two pages, describing how the applicant meets the definition of land grant institution, non-profit organization, or federally recognized Indian tribal government. In addition, the applicant must describe all other collaborative organizations that may be involved in the project, the respective role the collaborative organization will play in program delivery. The application must include a signed and dated full description from any collaborative organization describing its proposed role.

7. Proposal Narrative. The narrative portion of the project proposal must be in a font such as Times New Roman (12 pt.) or comparable font and must include the following:

a. Project Title. The title of the proposed project must be brief, not to exceed 100 characters, yet represent the major thrust of the project.

b. Information Sheet. A separate one page information sheet that lists each of the seven evaluation criteria listed in this notice (see the “Evaluation Criteria and Weights” section below) followed by the page numbers of all relevant material and documentation contained in the proposal that address or support that criteria.

c. Goals and Objectives of the Project. A clear statement of the ultimate goals and objectives of the project must be presented.

d. Evaluation Criteria. Each of the nine evaluation criteria listed in this notice (see the “Evaluation Criteria and Weights” section below) must be addressed specifically and individually by category. These criteria should be in narrative form with any specific supporting documentation attached as addenda and should be placed directly following the proposal narrative. If other materials, including financial statements, will be used to support any evaluation criteria it should also be placed directly following the proposal narrative. The applicant must also propose and delineate significant agency participation in the project. The applicant must also propose and delineate significant agency participation in the project at the local or regional level.

8. DUNS Number. A Dun and Bradstreet Universal Numbering System (DUNS) number is required for entities receiving Federal contracts such as a cooperative agreement under this notice.

Amount of Award

The amount of funds available for the remainder of FY 2010 (through September 30, 2010) is up to $400,000. Expenses incurred in developing applications will be at the applicant's risk.

Number of Awards

Only one cooperative agreement will be awarded.

Eligible Cooperative Agreement Fund Uses

Cooperative agreement funds may be used to cover allowable costs incurred by the recipient and approved by FSA. Allowable costs are governed by 7 CFR parts 3015, 3016, and 3019, as applicable, and applicable Office of Management and Budget Circulars.

Ineligible Fund Uses

Cooperative agreement funds must not be used to:

1. Plan, repair, rehabilitate, acquire, or construct a building or facility (including a processing facility);

2. Purchase, rent, or install fixed equipment, including mobile and other processing equipment;

3. Pay for the preparation of the cooperative agreement application;

4. Pay expenses not directly related to the funded venture (for example, cooperative agreement funds cannot be used to support the organization's general operations);

5. Fund political or lobbying activities;

6. Pay costs incurred prior to receiving the cooperative agreement;

7. Fund any activity prohibited by 7 CFR parts 3015, 3016, and 3019, as applicable; and

8. Fund architectural or engineering design work for a specific physical facility.

Evaluation Criteria, Proposal Review

A merit review panel of USDA employees as selected by the National FSA Office and the USDA Office of Tribal Relations will review applications for eligibility, completeness, and responsiveness to this notice. Incomplete or non-responsive applications will be returned to the applicant and not evaluated further. Applications received beyond the time deadline identified in this notice will not be accepted for review. The proposal will be evaluated using the criteria specified below. Failure to address any one of the criteria will disqualify the application. All proposals must be in compliance with this notice, applicable statutes, and regulations.

Prior to technical examination, a preliminary review will be made by FSA for responsiveness to this notice and completeness. Proposals that do not fall within the solicitation guidelines or are otherwise ineligible will be eliminated from competition. All responsive proposals will be reviewed by a merit review panel of reviewers using the evaluation criteria stated below. The selected USDA employee reviewers will be chosen to provide maximum expertise and objective judgment in the evaluation of proposals. Evaluated proposals will be ranked by the merit review panel, based on the evaluation criteria and weights listed below. Final approval of those proposals will be made by the Administrator of FSA.

Evaluation Criteria and Weights

All responsive proposals will be reviewed based on the following nine criteria:

1. Applicant's Demonstrated Ability to Conduct Program Education and Provide Technical Assistance (20 points). This standard evaluates the degree to which the organization can demonstrate having the requisite experience, qualifications, competency, and availability of personnel and resources needed to provide targeted program education and technical assistance on FSA credit sources, tailored to address the unique challenges faced by American Indian and Alaska Native producers. The applicant should be able to demonstrate its technical capacity for delivering credit outreach services using any acceptable farm business planning and management software, as deemed appropriate. A sufficient explanation must be contained in the application concerning the software used and the applicant's capacity and familiarity with the software program selected.

2. Applicant's Demonstrated Understanding of Constituent Population and Cultural Competency (5 points). This standard evaluates the degree to which the applicant can demonstrate that they understand the unique challenges facing American Indian and Alaska Native producers in such a way that allows the applicant to effectively provide assistance to these producers. Applicants should discuss in their proposal whether they possess the cultural competency needed to be of service to targeted constituent populations and to develop and foster a successful relationship with constituent populations. This standard evaluates the degree to which the proposal contains detailed programs to reach persons identified as American Indian and Alaska Native farmers, ranchers, and youth. The proposal will be evaluated for its potential for encouraging and assisting American Indian or Alaska Native farmers, ranchers, and youth to utilize the various FSA agriculture credit programs.

3. A Strategic Plan Centered around Anticipated and Actual Results for Constituent Population (20 points). This standard evaluates the extent to which the proposal clearly describes its objectives and evidences a high level of feasibility. This criterion relates to the adequacy and soundness of the proposed approach to solve specific problems and evaluates the plan of operation, the timetable, evaluation, and dissemination plans. This area of the application must clearly delineate all plans for execution during the life of the cooperative agreement; a clear timetable for accomplishing all relevant plans; a specific evaluation plan; and specific dissemination plans. A strategic plan should be provided that specifies discrete, actionable goals. It should propose metrics by which the applicant will measure its own success over the duration of the funding period, such as the number of American Indian and Alaska Native producers aided by applicant who successfully gained FSA credit. This strategic plan should be results oriented, focusing on progress in the economic state of the target population. If the applicant has conducted this or similar programs in previous years, they are required to reflect in their application the numbers of individuals reached in each previous year (in detail, by location, by funding year) and the number of individuals anticipated to be served within the project year for which funds are sought. Applicants should explain how they intend to independently gather this data.

4. Applicant's Ability to Track Internal Activity (15 points). This standard evaluates whether the applicant is able to track the discrete steps taken to realize its mission and explain the system it will use to do so. This includes a tracking system for program education efforts such as seminars or other teaching sessions, number of producers provided with technical assistance, or outreach activities. This tracking system will allow the applicant to effectively evaluate its own strategy and continually evolve the strategy to maximize efficacy. This tracking system should also be used to satisfy the reporting requirement to USDA regarding use of funding.

5. Adequacy of Budget (15 points). This standard evaluates whether the budget is designed to support the pursuit of the concrete, actionable goals enumerated in the strategic plan. This standard also evaluates the accuracy of the proposed budget and the accompanying budget justification. The proposed budget should provide a detailed description of each budget category that includes categorical subtotals as well as a separate budget justification that clearly defines and explains each and every proposed budget line item.

6. Sustainability of Effort (10 points). This standard rewards applicants who make plans that would ensure the sustainability of their effort and their ability to continue to provide American Indian and Alaska Native producers with the crucial services of program education and technical assistance. This includes the extent to which the applicant has, or has plans to, diversify their funding base by working with other USDA Agencies, other Federal Agencies, and non-government funding sources such as foundations or private entities.

7. Detailed Description of Collaborative Partnerships, if any, and Program Recipients (5 points). This standard evaluates the degree to which the proposal reflects partnerships and collaborative initiatives with other agencies or organizations to enhance the quality and effectiveness of the program. Additionally, the areas and number of underserved American Indian and Alaska Native farmers, ranchers, and youth who would benefit from the services offered will be evaluated. Collaborative individuals or organizations must submit a written (signed and dated) letter of collaboration in which all activities the collaborative may engage in with the applicant will be clearly outlined. All relevant personnel who will be involved in the project will be identified by the collaborative entity.

8. Innovative Solutions to Challenges Faced by Targeted Population (5 points). This standard rewards applicants for their ability to propose innovative ways to address the challenges faced by Native American and Alaska Native producers in accessing FSA credit.

9. Overall Quality of the Proposal (5 points). This standard evaluates the degree to which the proposal complies with this notice and is of high quality. Elements considered include adherence to instructions, accuracy and completeness of forms, clarity and organization of ideas, thoroughness and sufficiency of detail in the budget narrative, specificity of allocations between targeted areas if the proposal addresses more than one area, and completeness of vitae for all key personnel associated with the project.

Selection Process

When the merit review panel reviewers have completed their individual evaluations, the panel, based on the individual reviews, will make a recommendation to the Administrator that one responsive proposal be approved for support from available funds. Prior to award, the Administrator reserves the right to negotiate with an applicant whose project is recommended for funding regarding project revisions (for example, change in scope of work or FSA's significant involvement), funding level, or period of support. A proposal may be withdrawn at any time before a final funding decision is made.

Cooperative Agreement Awards

Within the limit of funds available for such purpose, the Administrator will enter into a cooperative agreement with the successful applicant.

When To Submit an Application

The deadline for receipt of all applications is 5 p.m. eastern time May 6, 2010. FSA will not accept any application received after the deadline.

Cooperator Requirements

Cooperators will be required to do the following:

• Sign required Federal assistance forms including:

○ Form AD-1047, Certification Regarding Debarment, Suspension, and Other Responsibility Matters-Primary Covered Transactions;

○ Form AD-1048, Certification Regarding Debarment, Suspension, Ineligibility and Voluntary Exclusion-Lower Tier Covered Transactions;

○ Form AD-1049, Certification Regarding a Drug-Free Workplace Requirements (Grants); and

○ Form RD 400-4, Assurance Agreement (Civil Rights).

• Use Standard Form (SF) 270, Request for Advance or Reimbursement to request payments.

• Submit a SF-269, Financial Status Report, and list expenditures according to agreed upon budget categories on a semi-annual basis. A financial report is due within 45 days after the first half of the project period and another financial report is due within 60 days of the completion of the project.

• Report information for active and pending projects on the Current and Pending Support form.

• Submit periodic performance reports to the FSA Administrator and the USDA Office of Tribal Relations, as requested and agreed upon in the cooperative agreement, that compare accomplishments to the objectives; if established objectives are not met, discuss problems, delays, or other problems that may affect completion of the project; establish objectives for the next reporting period; and discuss compliance with any special conditions on the use of awarded funds.

• Maintain a financial management system that is acceptable to FSA.

• Submit a final project performance report.

• Sign an FSA approved cooperative agreement (an example of which is provided at the end of this notice).

Other Federal Statutes and Regulations That Apply

In addition to the requirements provided in this notice, other Federal statutes and regulations apply to proposals considered for review and to our cooperative agreement award. These include, but are not limited to:

• 7 CFR part 15, subpart A, Nondiscrimination in Federally-Assisted Programs of the Department of Agriculture-Effectuation of Title VI of the Civil Rights Act of 1964;

• 7 CFR part 3015, Uniform Federal Assistance Regulations;

• 7 CFR parts 3016, Uniform Administrative Requirements for Grants and Cooperative Agreements to State and Local Governments, as applicable;

• 7 CFR part 3017, Governmentwide Debarment and Suspension (Non-procurement);

• 7 CFR part 3018, New Restrictions on Lobbying;

• 7 CFR part 3019, Uniform Administrative Requirements for Grants and Agreements with Institutions of Higher Education, Hospitals, and Other Non-profit Organizations, as applicable;

• 7 CFR part 3021, Governmentwide Requirements for Drug-Free Workplace (Financial Assistance); and

• 7 CFR part 3052, Audits of States, Local Governments, and Non-Profit Organizations.

Paperwork Reduction Act

The Paperwork Reduction Act does not apply to this notice because the program does not receive applications from more than 10 persons covered by 5 CFR 1320.3(c).

Signed in Washington, DC, on March 31, 2010.
Jonathan W. Coppess,
Administrator, Farm Service Agency.

United States Department of Agriculture

Farm Service Agency

Cooperative Agreement—American Indian and Alaska Native Outreach Initiative

This Cooperative Agreement (Agreement) dated____, between ____ (Cooperator), and the United States of America, acting through the Farm Service Agency of the Department of Agriculture (the Agency), for $ ____ in cooperative agreement funds under the program, delineates the agreement of the parties.

Now, therefore, in consideration of the Agreement;

The parties agree that:

1. All the terms and provisions of the notice entitled “Notice of Funds Availability (NOFA) Inviting Applications for the American Indian and Alaska Native Credit Outreach Initiative,” published in the Federal Register on April 6, 2010 and the application submitted by the Cooperator for this Agreement, including any attachments or amendments, are incorporated and included as part of this Agreement. Any changes to these documents or this Agreement must be approved in writing by the undersigned parties.

2. As a condition of the Agreement, the Cooperator certifies that it is in compliance with, and will comply in the course of the Agreement with, all applicable laws, regulations, Executive Orders, and other generally applicable requirements, including, but not limited to: Those contained in 7 CFR 3015.205(b), which are incorporated into this Agreement by reference, and such other statutory provisions as are specifically contained herein. The Cooperator will comply with title VI of the Civil Rights Act of 1964, section 504 of the Rehabilitation Act of 1973, and Executive Order 12250.

3. The provisions of 7 CFR part 3015, Uniform Federal Assistance Regulations, and 7 CFR part 3019, Uniform Administrative Requirements for Grants and Agreements With Institutions of Higher Education, Hospitals, and Other Nonprofit Organizations, as applicable, are incorporated herein and made a part hereof by reference.

4. All conditions and provisions of this Agreement will become effective on signature of both parties and will continue until completion of the project, but not later than September 30, ____.

Further, the Cooperator agrees that it will:

1. Not use cooperative agreement funds to plan, repair, rehabilitate, acquire, or construct a building or facility (including a processing facility); or to purchase, rent, or install fixed equipment.

2. Use funds only for the purpose and activities specified in the proposal approved by the Agency including the approved budget. Any uses not provided for in the approved budget must be approved in writing by the Agency in advance of obligation by the Agency.

3. Submit a Standard Form 269, Financial Status Report and list expenditures according to agreed upon budget categories. Reports are due halfway through the period covered by the cooperative agreement, as well as at the end of the period covered.

4. Provide periodic reports as required by the Agency. A financial status report and a project performance report will be required on a quarterly basis. The financial status report must show how cooperative agreement funds have been used to date and project the funds needed and their purposes for the next quarter. A final report may serve as the last semi-annual report. Cooperators must constantly monitor performance to ensure that time schedules are being met and projected goals by time periods are being accomplished. The project performance reports must include the following:

a. A comparison of actual accomplishments to the objectives for that period.

b. Reasons why established objectives were not met, if applicable.

c. Reasons for any problems, delays, or adverse conditions that will affect attainment of overall program objectives, prevent meeting time schedules or objectives, or preclude the attainment of particular objectives during established time periods. This disclosure must be accompanied by a statement of the action taken or planned to resolve the situation.

d. Objectives and timetables established for the next reporting period.

e. The final report will also address, but not be limited to, the following:

i. What have been the most challenging or unexpected aspects of this program? What aspects of the program most need improvement? What would be your plan for that improvement if given the opportunity to change the program in the future?

ii. What advice would you give to other organizations planning a similar program? These should include strengths and limitations of the program. If you had the opportunity, what would you have done differently?

iii. If an innovative approach was used successfully, the Cooperator should describe their program in detail so that other organizations might consider replication in their areas.

5. Provide Financial Management Systems which will include:

a. Records that identify adequately the source and application of funds for cooperative agreement supported activities. Those records must contain information pertaining to grant and cooperative agreement awards and authorizations, obligations, unobligated balances, assets, liabilities, outlays, and income.

b. Effective control over and accountability for all funds, property, and other assets. Cooperator must adequately safeguard all such assets and ensure that they are used solely for authorized purposes.

c. Accounting records supported by source documentation.

6. Retain financial records, supporting documents, statistical records, and all other records pertinent to the cooperative agreement for a period of at least 3 years after closing, except that the records must be retained beyond the 3-year period if audit findings have not been resolved. Microfilm or photocopies or similar methods may be substituted in lieu of original records. The Agency and the Comptroller General of the United States, or any of their duly authorized representatives, must have access to any books, documents, papers, and records of the Cooperator that are pertinent to the specific cooperative agreement program for the purpose of making audits, examinations, excerpts, and transcripts.

7. Not encumber, transfer, or dispose of the equipment or any part thereof, acquired wholly or in part with Agency funds without the written consent of the Agency.

8. Not duplicate other program purposes for which monies have been received, are committed, or are applied to from other sources (public or private).

9. Immediately refund to the Agency, at the end of the Agreement, any balance of unobligated funds received from the Agency.

The Agency agrees that it will:

1. Assist in defraying the project cost by reimbursing or advancing to the Cooperator under this Agreement an amount not to exceed [Funding Amount $XX]. The funds will be reimbursed or advanced in accordance with applicable Federal regulations based on submission to the Agency by the Cooperator of a complete Standard Form 270.

2. Monitor the program as it is being implemented and operated.

3. Evaluate the performance reports submitted by the Cooperator and recommend revisions where necessary.

4. Halt activity, after written notice, if project objectives are not met.

5. Identify USDA points of contact to address program questions.

Authorized and executed this day by:

(Cooperator)

(Title)

UNITED STATES OF AMERICA FARM SERVICE AGENCY

By:

(Name)

(Title)

[FR Doc. 2010-7729 Filed 4-5-10; 8:45 am]

BILLING CODE 3410-05-P